DEPARTMENT OF COMMERCE

International Trade Administration

[A-351-860]

Ferrosilicon From Brazil: Final Affirmative Determination of Sales at Less Than Fair Value

AGENCY: Enforcement and Compliance, International Trade Administration, Department of Commerce.

SUMMARY: The U.S. Department of Commerce (Commerce) determines that imports of ferrosilicon from Brazil are being, or are likely to be, sold in the United States at less than fair value (LTFV) for the period of investigation January 1, 2023, through December 31, 2023.

DATES: Applicable March 28, 2025.

FOR FURTHER INFORMATION CONTACT: Jaron Moore or Noah Wetzel, AD/CVD Operations, Office VIII, Enforcement and Compliance, International Trade Administration, U.S. Department of Commerce, 1401 Constitution Avenue NW, Washington, DC 20230; telephone: (202) 482-3640 or (202) 482-7466, respectively.

SUPPLEMENTARY INFORMATION:

Background

On November 6, 2024, Commerce published the Preliminary Determination in the Federal Register.¹ We invited interested parties to comment on the Preliminary Determination. For a summary of the events that followed the Preliminary Determination, see the Issues and Decision Memorandum.² The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

¹ See Ferrosilicon from Brazil: Preliminary Affirmative Determination of Sales at Less Than Fair Value, Postponement of Final Determination, and Extension of Provisional Measures, 89 FR 88004 (November 6, 2024) (Preliminary Determination), and accompanying Preliminary Decision Memorandum (PDM).

² See Memorandum, “Issues and Decision Memorandum for the Final Affirmative Determination in the Less-Than-Fair-Value Investigation of Ferrosilicon from Brazil,” dated concurrently with, and hereby adopted by, this notice (Issues and Decision Memorandum).

Scope of the Investigation

The product covered by this investigation is ferrosilicon from Brazil. For a complete description of the scope of this investigation, see Appendix I.

Scope Comments

No interested party commented on the scope of the investigation as it appeared in the Preliminary Determination. Therefore, we made no changes to the scope of the investigation.

Verification

Commerce conducted verification of the information relied upon in making its final determination in this investigation, in accordance with section 782(i) of the Tariff Act of 1930, as amended (the Act). Specifically, Commerce conducted on-site verifications of the cost and sales information submitted by Companhia de Ferro Ligas da Bahia S.A. (Ferbasa) and Minasligas S.A. (Minasligas).³ We used standard verification procedures, including an examination of relevant sales and accounting records, and original source documents provided by Ferbasa and Minasligas.

³ See Memoranda, “Verification of the Sales Response of Companhia de Ferro Ligas de Bahia in the Antidumping Investigation of Ferrosilicon from Brazil,” dated January 31, 2025; and “Verification of the Sales Response of Minasligas S.A. in the Antidumping Investigation of Ferrosilicon from Brazil,” dated January 31, 2025.

Analysis of Comments Received

All issues raised in the case and rebuttal briefs submitted by interested parties in this investigation are addressed in the Issues and Decision Memorandum. A list of the issues addressed in the Issues and Decision Memorandum is attached to this notice at Appendix II.

Changes Since the Preliminary Determination

Based on our verification findings, a review of the record, and the comments received from interested parties regarding the Preliminary Determination, we made certain changes to both Ferbasa's and Minasligas' preliminary weighted-average dumping margin calculations. For a discussion of these changes, see the Issues and Decision Memorandum.

Use of Adverse Facts Available (AFA)

Commerce assigned a dumping margin to Ligas de Aluminio S.A. (LIASA) on the basis of AFA, pursuant to sections 776(a) and (b) of the Act in the Preliminary Determination.⁴ For this final determination, we continue to find that the application of AFA, pursuant to sections 776(a) and (b) of the Act, is warranted with respect to LIASA. Further, as discussed in the Issues and Decision Memorandum, Commerce is also relying on partial AFA with regard to certain of Ferbasa's freight expenses.

⁴ See Preliminary Determination, 89 FR at 88005.

All-Others Rate

Section 735(c)(5)(A) of the Act provides that the estimated weighted-average dumping margin for all other producers and exporters not individually examined shall be an amount equal to the weighted average of the estimated weighted-average dumping margins established for exporters and producers individually investigated, excluding any rates that are zero, de minimis margins, or determined entirely under section 776 of the Act.

For the final determination of this investigation, Commerce calculated an estimated weighted-average dumping margin of 0.78 percent (i.e., de minimis) for Minasligas, an estimated weighted-average dumping margin of 13.66 percent for Ferbasa, and has applied a rate based on AFA of 21.78 percent to LIASA. Therefore, the only rate that is not zero, de minimis, or based entirely on facts otherwise available is the rate calculated for Ferbasa. Consequently, the rate calculated for Ferbasa is also assigned as the rate for all other producers and exporters.

Final Determination

Commerce determines that the following estimated weighted-average dumping margins exist:

Exporter/producer | Weighted-average dumping margin (percent) | Cash deposit rate (adjusted for subsidy offset(s)) (percent)
Companhia de Ferro Ligas da Bahia S.A | 13.66 | 13.57.
Ligas de Aluminio S.A | * 21.78 | 0.00.
Minasligas S.A | ** 0.78 | Not Applicable.
All Others | 13.66 | 13.57.
* Rate based on facts available with adverse inferences.
** Rate is de minimis.

Disclosure

Commerce intends to disclose the calculations and analysis performed in connection with this final determination to interested parties within five days of any public announcement or, if there is no public announcement, within five days of the publication date of this notice in the Federal Register, in accordance with 19 CFR 351.224(b).

Continuation of Suspension of Liquidation

In accordance with section 735(c)(1)(B) of the Act, Commerce will instruct U.S. Customs and Border Protection (CBP) to continue to suspend liquidation of entries of subject merchandise, as described in Appendix I of this notice, which were entered, or withdrawn from warehouse, for consumption, on or after November 6, 2024, the date of publication of the Preliminary Determination in the Federal Register. These suspension of liquidation instructions will remain in effect until further notice.

Pursuant to section 735(c)(1)(B)(ii) of the Act and 19 CFR 351.210(d), upon the publication of this notice, Commerce will instruct CBP to require a cash deposit for estimated antidumping duties for such entries as follows: (1) the cash deposit rate for the respondents listed above (except Minasligas) will be equal to the company-specific estimated weighted-average dumping margin determined in this final determination; (2) if the exporter is not a respondent identified above but the producer is, then the cash deposit rate will be equal to the company-specific estimated weighted-average dumping margin established for that producer of the subject merchandise; and (3) the cash deposit rate for all other producers and exporters will be equal to the all-others estimated weighted-average dumping margin listed in the table above.

Because the estimated weighted-average dumping margin for Minasligas is de minimis, entries of shipments of subject merchandise that are produced and exported by Minasligas will not be subject to suspension of liquidation or cash deposit requirements. In such situations, Commerce also applies the exclusion from the provisional measures to the producer/exporter combination that was examined in the investigation. Accordingly, Commerce will not direct CBP to suspend liquidation of entries of subject merchandise produced and exported by Minasligas. However, entries of subject merchandise from this company in any other producer/exporter combination (i.e., where Minasligas is either the producer or the exporter, but not both), or by third parties that sourced subject merchandise from the excluded producer/exporter combination, will be subject to suspension of liquidation at the all-others rate.

Further, because the estimated weighted-average dumping margin is de minimis for subject merchandise produced and exported by Minasligas, entries of such merchandise will be excluded from the potential antidumping duty order. Such an exclusion will not be applicable to merchandise exported to the United States by this respondent in any other producer/exporter combinations or by third parties that sourced subject merchandise from the excluded producer/exporter combination.

To determine the cash deposit rate, Commerce normally adjusts the estimated weighted-average dumping margin by the amount of export subsidies countervailed in a companion countervailing duty (CVD) proceeding, when CVD provisional measures are in effect. Accordingly, where Commerce has made a final affirmative determination for countervailable export subsidies, Commerce offsets the estimated weighted-average dumping margin by the appropriate CVD rate. Commerce has continued to adjust the cash deposit rate for export subsidies in the companion CVD investigation by the appropriate export subsidy rate as indicated in the above chart. However, suspension of liquidation of provisional measures in the companion CVD case has been discontinued; ⁵ therefore, we are not instructing CBP to collect cash deposits based upon the adjusted estimated weighted-average dumping margin for those export subsidies at this time.

⁵ See Ferrosilicon from Brazil: Preliminary Affirmative Countervailing Duty Determination, Preliminary Affirmative Critical Circumstances Determination, in Part, and Alignment of Final Determination With Final Antidumping Duty Determination, 89 FR 73371 (September 10, 2024); see also section 703(d) of the Act, which states that the provisional measures may not be in effect for more than four months, which in the companion CVD case is 120 days after the publication of the preliminary determination, January 8, 2025 (i.e., last day provisional measures are in effect).

U.S. International Trade Commission (ITC) Notification

In accordance with section 735(d) of the Act, Commerce will notify the ITC of its final affirmative determination of sales at LTFV. Because Commerce's final determination is affirmative, in accordance with section 735(b)(2) of the Act, the ITC will make its final determination as to whether the domestic industry in the United States is materially injured, or threatened with material injury, by reason of imports or sales (or the likelihood of sales) for importation of ferrosilicon from Brazil, no later than 45 days after this final determination. If the ITC determines that such injury does not exist, this proceeding will be terminated, all cash deposits posted will be refunded, and suspension of liquidation will be lifted. If the ITC determines that such injury does exist, Commerce will issue an antidumping duty order directing CBP to assess, upon further instruction by Commerce, antidumping duties on all imports of the subject merchandise entered, or withdrawn from warehouse, for consumption on or after the effective date of the suspension of liquidation, as discussed above in the “Continuation of Suspension of Liquidation” section above.

Administrative Protective Order (APO)

This notice will serve as a final reminder to the parties subject to an APO of their responsibility concerning the disposition of proprietary information disclosed under APO in accordance with 19 CFR 351.305(a)(3). Timely written notification of return or destruction of APO materials or conversion to judicial protective order is hereby requested. Failure to comply with the regulations and the terms of an APO is a sanctionable violation.

Notification to Interested Parties

This determination is issued and published in accordance with sections 735(d) and 777(i)(1) of the Act, and 19 CFR 351.210(c).

Dated: March 21, 2025.
Christopher Abbott,
Deputy Assistant Secretary for Policy and Negotiations, performing the non-exclusive functions and duties of the Assistant Secretary for Enforcement and Compliance.

Appendix I—Scope of the Investigation

The scope of this investigation covers all forms and sizes of ferrosilicon, regardless of grade, including ferrosilicon briquettes. Ferrosilicon is a ferroalloy containing by weight four percent or more iron, more than eight percent but not more than 96 percent silicon, three percent or less phosphorus, 30 percent or less manganese, less than three percent magnesium, and 10 percent or less of any other element. The merchandise covered also includes product described as slag, if the product meets these specifications.

Subject merchandise includes material matching the above description that has been finished, packaged, or otherwise processed in a third country, including by performing any grinding or any other finishing, packaging, or processing that would not otherwise remove the merchandise from the scope of the investigation if performed in the country of manufacture of the ferrosilicon.

Ferrosilicon is currently classifiable under subheadings 7202.21.1000, 7202.21.5000, 7202.21.7500, 7202.21.9000, 7202.29.0010, and 7202.29.0050 of the Harmonized Tariff Schedule of the United States (HTSUS). While the HTSUS numbers are provided for convenience and customs purposes, the written description of the scope remains dispositive.

Appendix II—List of Topics Discussed in the Issues and Decision Memorandum

I. Summary

II. Background

III. Changes from the Preliminary Determination

IV. Discussion of the Issues

Comment 1: Ferbasa's Minor Correction Sales

Comment 2: Timing of Commerce's Request for Post-Verification Database Revisions

Comment 3: SAS Programming Changes for Minasligas

Comment 4: AFA Rate for LIASA

Comment 5: Whether Commerce Should Remove Canadian Sales from Minasligas' U.S. Sales Database

Comment 6: Whether Commerce Should Revise General and Administrative (G&A) Expenses Based on Verification Findings

Comment 7: Whether Commerce Should Apply Partial AFA to Minasligas for Failing to Report Cost Differences Attributable to Certain Physical Characteristics

V. Recommendation

[FR Doc. 2025-05302 Filed 3-27-25; 8:45 am]

BILLING CODE 3510-DS-P